ENVIRONMENTAL PROTECTION AGENCY

40 CFR Part 300

[EPA-HQ-SFUND-1989-0011; FRL-10008-68-Region 9]

National Oil and Hazardous Substances Pollution Contingency Plan; National Priorities List: Deletion of the JASCO Chemical Corp. Superfund Site

AGENCY: Environmental Protection Agency (EPA).

ACTION: Proposed rule; notice of intent.

SUMMARY: The Environmental Protection Agency (EPA) Region 9 is issuing a Notice of Intent to Delete the JASCO Chemical Corporation Superfund Site (Site) located in Mountain View, California, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). EPA and the State of California, through the Department of Toxic Substances Control, have determined that all appropriate response actions under CERCLA have been completed. However, this deletion does not preclude future actions under Superfund.

DATES: Comments must be received by June 25, 2020.

ADDRESSES: Submit your comments, identified by Docket ID no. EPA-HQ-SFUND-1989-0011, by one of the following methods:

• http://www.regulations.gov: Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

• Email: Superfund Project Manager: Eric Canteenwala, canteenwala.eric@epa.gov.

• Written comments submitted by mail are temporarily suspended and no hand deliveries will be accepted. We encourage the public to submit comments via https://www.regulations.gov

Instructions: Direct your comments to Docket ID no. EPA-HQ-SFUND-1989-0011. EPA's policy is that all comments received will be included in the public docket without change and may be made available online at http://www.regulations.gov, including any personal information provided, unless the comment includes information claimed to be CBI or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov your email address will be automatically captured and included as part of the comment that is placed in the public docket and made available on the internet. If you submit an electronic comment, EPA recommends that you include your name and other contact information in the body of your comment. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at the following repositories:

The EPA is temporarily suspending its Docket Center and Regional Records Centers for public visitors to reduce the risk of transmitting COVID-19. In addition, many site information repositories are closed and information in these repositories, including the deletion docket, has not been updated with hardcopy or electronic media. For further information and updates on EPA Docket Center services, please visit us online at https://www.epa.gov/dockets.

The EPA continues to carefully and continuously monitor information from the Centers for Disease Control and Prevention (CDC), local area health departments, and our Federal partners so that we can respond rapidly as conditions change regarding COVID.

FOR FURTHER INFORMATION CONTACT: Eric Canteenwala, Superfund Project Manager, U.S. EPA, Region 9 (SFD-7-1), 75 Hawthorne Street, San Francisco, CA 94105, (415) 972-3932, email: canteenwala.eric@epa.gov.

SUPPLEMENTARY INFORMATION:

Table of Contents

I. Introduction

II. NPL Deletion Criteria

III. Deletion Procedures

IV. Basis for Site Deletion

I. Introduction

EPA Region 9 announces its intent to delete the JASCO Chemical Corporation Superfund Site from the NPL and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this Site for thirty (30) days after publication of this document in the Federal Register.

Section II of this document explains the criteria for deleting sites from the NPL. Section III discusses procedures that EPA is using for this action. Section IV discusses the Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of the Site:

(1) EPA consulted with the State before developing this Notice of Intent to Delete.

(2) EPA has provided the State 30 working days for review of this notice prior to publication of it today.

(3) In accordance with the criteria discussed above, EPA has determined that no further response is appropriate.

(4) The State of California, through DTSC, has concurred with deletion of the Site from the NPL.

(5) Concurrently with the publication of this Notice of Intent to Delete in the Federal Register, a notice is being published in a local newspaper, the Mountain View Voice. The newspaper notice announces the 30-day public comment period concerning the Notice of Intent to Delete the Site from the NPL.

(6) EPA placed copies of documents supporting the proposed deletion in the deletion docket and made these items available for public inspection and copying at the Site information repositories identified above.

If comments on this document are received within the 30-day public comment period, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the Site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions. EPA may initiate further action to ensure continued protectiveness at a deleted site if new information becomes available that indicates it is appropriate. Whenever there is a significant release from a site deleted from the NPL, the deleted site may be restored to the NPL without application of the hazard ranking system.

IV. Basis for Site Deletion

The following information provides EPA's rationale for deleting the Site from the NPL.

Site Background and History

The Site (CERCLIS ID #CAD009103318) is located at 1710 Villa Street in the City of Mountain View, Santa Clara County, California and is 2.05 acres in size. JASCO Chemical Corporation (JASCO) repackaged and formulated bulk chemical products on site from 1976 to 1995. Chemicals were unloaded from rail cars and stored in eight underground storage tanks that polluted the surrounding soil and groundwater. Volatile organic compounds (VOCs) and hydrocarbons, such as trichloroethane, acetone, creosote, and methylene chloride, were detected in shallow groundwater at the Site starting in 1984. On June 24, 1988, the Site was proposed for NPL listing (53 FR 23988). On October 4, 1989, EPA added the Site to the NPL (54 FR 41015).

Ongoing Development

Historically, the area surrounding the site was industrial with many different electronics and semiconductor manufacturers. It is now within a residential area and zoned for future residential use, with the Southern Pacific Railroad running along the property's northern boundary. The site is currently owned by the Prometheus Real Estate Group, which plans to redevelop the property into an apartment complex.

Remedial Investigation and Feasibility Study (RI/FS)

The Remedial Investigation (RI) was completed in 1991 and included investigation of groundwater and soil. A citizen complaint of solvent dumping resulted in the California Regional Water Quality Control Board (RWQCB) requesting the installation of monitoring wells to determine if the groundwater had been contaminated. EPA drilled additional groundwater monitoring wells and collected soil samples to define the nature and extent of contamination at the site.

EPA completed the Feasibility Study (FS) in 1991. The FS evaluated six alternatives for groundwater remediation and five alternatives for soil remediation. The groundwater alternatives were: (1) No further action; (2) discharge to a Publicly Owned Treatment Works (POTW); (3) UV oxidation; (4) liquid phase carbon adsorption; (5) air stripping; and (6) biological treatment followed by carbon adsorption. The soil remediation alternatives were (1) no further action; (2) off-site treatment; (3) enhanced biological treatment; (4) X-19 biological treatment; and (5) Excalibur process or soil washing involving catalytic ozone oxidation.

Selected Remedy

The Record of Decision (ROD) was issued on September 30, 1992. A Groundwater Extraction and Treatment System (GETS) with air stripping and liquid phase carbon adsorption that discharged into a POTW was selected as the groundwater remedy. Ex-situ bioremediation was selected for the soil remedy. An interim removal action completed in 1988 removed 572 cubic feet of contaminated soil down to the water table (22-28 ft. below ground surface). A dual vacuum extraction/soil vapor extraction system (DVE) was installed for dual remediation of contaminated soil and groundwater. This remedy included modifications to and continued operation of the existing GETS and implementation of a restrictive easement to prohibit use of onsite shallow groundwater. Institutional controls on the site prohibited the use of groundwater until cleanup levels were achieved.

On September 13, 2002, EPA issued an Explanation of Significant Differences (ESD) that modified three elements of the remedy. (1) Treated groundwater was discharged to surface water under a National Pollutant Discharge Elimination System (NPDES) permit issued by the RWQCB instead of Mountain View's POTW. In order to meet the more stringent requirements under the NPDES permit the groundwater treatment system was modified. (2) Soil treatment in the drainage swale area at the rear of the site was modified to allow in situ soil vapor extraction. (3) Institutional control requirements were modified to add a post cleanup deed restriction to address the impacts of an offsite tetrachloroethene (PCE) plume not considered part of the Site. EPA issued a second ESD on September 26, 2012 that removed the requirement for the deed restriction to address the offsite PCE plume and clarified that this was no longer a component of the Superfund remedy for the Site.

The remedial action objectives (RAO) for the remedy selected in the 1992 ROD were to prevent further migration of contaminants into groundwater by treating Site soils; prevent possible future exposure of the public to contaminated groundwater; and prevent contamination of the drinking water aquifer by treating both contaminated soil and groundwater. The 1992 ROD listed cleanup criteria for twenty different VOCs in soil and groundwater. The cleanup levels for many of these contaminants were more protective than the groundwater Maximum Contaminant Level as specified in the Safe Drinking Water Act.

Response Actions

The remedy selected in the 1992 ROD was implemented beginning in 1994. Activities implemented pursuant to the ROD, as modified by the 2002 ESD included: (1) Removal of eight underground storage tanks (UST) from the Site and ex-situ bioremediation of the soil stockpile generated from UST removal; (2) installation of GETS equipped with a liquid-phase carbon adsorption system that discharged to a POTW; (3) a dual vacuum extraction/soil vapor extraction system installed for dual remediation of contaminated soil and groundwater in the drainage swale area; (4) two monitoring wells were converted to DVE wells in response to the appearance of PCE in groundwater. These converted wells remained in operation until April 1998 when the expanded GETS was completed; (5) Implementation of Institutional Controls on the Site in the form of a restrictive easement recorded in 1993, which prohibited the use of groundwater until cleanup levels were achieved. The Site reached construction complete status on September 20, 2002 and a Preliminary Close Out Report (PCOR) was prepared at that time.

Cleanup Levels

Cleanup levels for both soil and groundwater treatment were reached in 2002. The GETS was shut off in 2002 and groundwater monitoring ended in 2010. The 2012 Five Year Review (FYR) concluded that all contaminants of concern, except for PCE and tricholoroethylene (TCE), were below the maximum contaminant levels for 18 consecutive quarters. PCE and TCE were determined to be related to an offsite plume not related to the Site. The EPA determined that the RAO (i.e., prevent any further migration of contaminants into groundwater by treating Site soils) had been attained at the Site based on confirmatory samples taken of soil contaminants after the excavation of the USTs and in 2002. The results were compared against both EPA Region 9 residential soil Preliminary Remediation Goals for dermal exposure and the 2012 EPA Regional Screening Levels for soils.

Operation and Maintenance

There are no ongoing monitoring activities for soil or groundwater. The 2012 ESD removed the requirement for institutional controls related to the CERCLA remedy. An environmental covenant related to the offsite PCE plume was signed by the property owner and the RWQCB, was recorded by Santa Clara County, and remains in effect. Because cleanup is now complete at the Site, the 2002 Site-related deed restriction was terminated, groundwater monitoring was discontinued, the monitoring wells have been properly closed under Santa Clara Valley Water District (SCVWD) permit, and monitoring and maintenance have been discontinued.

Five-Year Reviews

EPA conducts reviews every five years to determine if remedies are functioning as intended and if they continue to be protective of human health and the environment. EPA issued the Second Five-Year Review Report on September 28, 2012, and concluded that the remedy at the JASCO Site is protective of human health and the environment. At that time, groundwater contamination had reached cleanup levels, and any potential exposures were controlled through the deed restriction. No future five-year reviews are needed because the groundwater and soil cleanup goals have been attained throughout the Site, all monitoring wells have been closed, and the environmental covenant for the CERCLA related contamination was terminated.

Community Involvement

EPA held community meetings before and during the Site cleanup. EPA released a fact sheet in 2010 describing potential redevelopment of the site.

Determination That the Site Meets the Criteria for Deletion in the NCP

EPA has followed all procedures required by 40 CFR 300.425(e), Deletion from the NPL. EPA consulted with the State of California prior to developing this Notice. EPA determined that the responsible party has implemented all appropriate response actions required and that no further response action for the Site is appropriate. EPA is publishing a notice in the Mountain View Voice, a local newspaper, of its intent to delete the Site and how to submit comments. EPA placed copies of documents supporting the proposed deletion in the Site information repositories; these documents are available for public inspection and copying.

The implemented groundwater remedy achieved the degree of cleanup and protection specified in the ROD for the Site. The selected remedial action objectives and associated cleanup levels for the groundwater are consistent with agency policy and guidance. Based on information currently available to EPA, no further Superfund response is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: May 14, 2020.
John Busterud,
Regional Administrator, Region 9.

[FR Doc. 2020-11028 Filed 5-22-20; 8:45 am]

BILLING CODE 6560-50-P